DEPARTMENT OF HOMELAND SECURITY

Coast Guard

33 CFR Part 117

[CGD01-05-034]

RIN 1625-AA09

Drawbridge Operation Regulations; Kennebec River, ME

AGENCY: Coast Guard, DHS.

ACTION: Notice of proposed rulemaking.

SUMMARY: The Coast Guard proposes to temporarily change the drawbridge operating regulations governing the operation of the Carlton Bridge, mile 14.0, across the Kennebec River between Bath and Woolwich, Maine. This proposed rule would allow the bridge to open on signal every three hours at 6 a.m., 9 a.m., 12 p.m., 3 p.m., and 6 p.m., Monday through Saturday, from July 5 through December 17, 2005, and again from April 1 through June 30, 2006, to facilitate rehabilitation construction at the bridge. This rule also would allow five three-day bridge closures in September and October of 2005. Vessels that can pass under the bridge without a bridge opening may do so at all times.

DATES: Comments and related material must reach the Coast Guard on or before May 20, 2005.

ADDRESSES: You may mail comments and related material to Commander (obr), First Coast Guard District Bridge Branch, 408 Atlantic Avenue, Boston, Massachusetts, 02110, or deliver them to the same address between 6:30 a.m. and 3 p.m., Monday through Friday, except, Federal holidays. The telephone number is (617) 223-8364. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

FOR FURTHER INFORMATION CONTACT: John McDonald, Project Officer, First Coast Guard District, (617) 223-8364.

SUPPLEMENTARY INFORMATION:

Request for Comments

We encourage you to participate in this rulemaking by submitting comments or related material. If you do so, please include your name and address, identify the docket number for this rulemaking (CGD01-05-034), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this proposed rule in view of them.

Public Meeting

We do not now plan to hold a public meeting. But you may submit a request for a meeting by writing to the First Coast Guard District, Bridge Branch, at the address under ADDRESSES explaining why one would be beneficial. If we determine that one would aid this rulemaking, we will hold one at a time and place announced by a later notice in the Federal Register.

Background

The Carlton Bridge has a vertical clearance of 10 feet at mean high water and 16 feet at mean low water in the closed position. The existing drawbridge operation regulations are listed at 33 CFR 117.525.

The owner of the bridge, Maine Department of Transportation (MDOT), requested a temporary change to the drawbridge operation regulations to allow the bridge to open on signal every three hours at 6 a.m., 9 a.m., 12 p.m., 3 p.m., and 6 p.m., only, Monday through Saturday, from July 5 through December 17, 2005, and again from April 1 through June 30, 2006, to facilitate rehabilitation construction at the bridge.

From 6 p.m. through 6 a.m. the draw would open on signal after at least a two-hour notice is given by calling the number posted at the bridge.

The bridge would open on signal for Labor Day weekend, Friday, September 2, 2005 through Monday, September 5, 2005, from 8 a.m. to 5 p.m., and from 5 p.m. through 8 a.m., the draw would open after a two-hour notice is given by calling the number posted at the bridge.

From December 18, 2005 through March 31, 2006, the bridge would operate in accordance with its normal winter schedule.

In addition, this proposed rule would allow five three-day bridge closures as follows: September 7 through September 9; September 20 through September 22; October 4 through October 6; October 18 through October 20; and November 1 through November 3, 2005.

Discussion of Proposal

This proposed change would suspend § 117.525(a) and temporarily add a new paragraph (c).

Under the new paragraph the Carlton Bridge would open on signal every three hours at 6 a.m., 9 a.m., 12 p.m., 3 p.m., and 6 p.m., only, Monday through Saturday, from July 5 through December 17, 2005, and again from April 1 through June 30, 2006. From 6 p.m. through 6 a.m. the draw shall open on signal after at least a two-hour notice is given by calling the number posted at the bridge.

The bridge would open on signal for Labor Day weekend, Friday, September 2, 2005 through Monday, September 5, 2005, from 8 a.m. to 5 p.m. and from 5 p.m. through 8 a.m. the draw would open after a two-hour notice is given by calling the number posted at the bridge.

From December 18, 2005 through March 31, 2006, the bridge would operate in accordance with its existing winter schedule, which has been in effect since 2001.

In addition, the draw would also be allowed to remain closed for five three-day closures as follows: September 7 through September 9; September 20 through September 22; October 4 through October 6; October 18 through October 20; and November 1 through November 3, 2005.

Regulatory Evaluation

This proposed rule is not a “significant regulatory action” under section 3(f) of Executive Order 12866, Regulatory Planning and Review, and does not require an assessment of potential costs and benefits under 6(a)(3) of that Order. The Office of Management and Budget has not reviewed it under that Order. It is not “significant” under the regulatory policies and procedures of the Department of Homeland Security.

We expect the economic impact of this proposed rule to be so minimal that a full Regulatory Evaluation, under the regulatory policies and procedures of DHS, is unnecessary.

This conclusion is based on the fact that the bridge will continue to open on signal for all vessel traffic at three-hour intervals from 6 a.m. to 6 p.m.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

The Coast Guard certifies under section 5 U.S.C. 605(b), that this proposed rule would not have a significant economic impact on a substantial number of small entities.

This conclusion is based on the fact that the bridge will continue to open on signal for all vessel traffic at three-hour intervals from 6 a.m. to 6 p.m.

If you think that your business, organization, or governmental jurisdiction qualifies as a small entity and that this rule would have a significant economic impact on it, please submit a comment (see ADDRESSES) explaining why you think it qualifies and how and to what degree this rule would economically affect it.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under E.O. 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This proposed rule does not use technical standards. Therefore, we did not consider the use of voluntary consensus standards.

Environment

We have analyzed this proposed rule under Commandant Instruction M16475.1D, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e), of the Instruction, from further environment documentation because it has been determined that the promulgation of operating regulations or procedures for drawbridges are categorically excluded.

List of Subjects in 33 CFR Part 117

Bridges.

Regulations

For the reasons set out in the preamble, the Coast Guard proposes to amend 33 CFR part 117 as follows:

PART 117—DRAWBRIDGE OPERATION REGULATIONS

1. The authority citation for part 117 continues to read as follows:

Authority: 33 U.S.C. 499; Department of Homeland Security Delegation No. 0170; 33 CFR 1.05-1(g); section 117.255 also issued under the authority of Pub. L. 102-587, 106 Stat. 5039.

2. From July 5, 2005 through June 30, 2006, § 117.525(a) is suspended and a new paragraph (c) is added to read as follows:

§ 117.525 Kennebec River

* * * * *

(c) (1) The Carlton Bridge, mile 14.0, shall open on signal at 6 a.m., 9 a.m., 12 p.m., 3 p.m., and 6 p.m., Monday through Saturday, from July 5, 2005 through December 17, 2005, and from April 1, 2006 through June 30, 2006. From 6 p.m. through 6 a.m. the draw shall open on signal after at least a two-hour notice is given by calling the number posted at the bridge.

(2) The draw shall open on signal on Labor Day weekend, Friday, September 2, 2005 through Monday, September 5, 2005, from 8 a.m. to 5 p.m., and from 5 p.m. through 8 a.m., the draw shall open after a two-hour notice is given by calling the number posted at the bridge.

(3) From December 18, 2005 through March 31, 2006, the bridge shall open on signal, except that, from 5 p.m. to 8 a.m., the draw shall open on signal after a twenty-four hour notice is given and from 8 a.m. to 5 p.m., on Saturday and Sunday, after an eight-hour notice is given by calling the number posted at the bridge.

(4) The draw of the Carlton Bridge may remain in the closed position for five three-day closure periods as follows: September 7 through September 9; September 20 through September 22; October 4 through October 6; October 18 through October 20; and November 1 through November 3, 2005.

Dated: April 7, 2005.
John L. Grenier,
Captain, U.S. Coast Guard, Acting Commander, First Coast Guard District.

[FR Doc. 05-7892 Filed 4-19-05; 8:45 am]

BILLING CODE 4910-15-P